NATIONAL LABOR RELATIONS BOARD

Privacy Act of 1974; System of Records

AGENCY: National Labor Relations Board (NLRB).

ACTION: Rescindment of a systems of records notice.

SUMMARY: Pursuant to the provisions of the Privacy Act of 1974, and Office of Management and Budget (OMB) Circular No. A-108, the National Labor Relations Board (“NLRB” or “Agency”) publishes this rescindment of two systems of records notices: NLRB FOIAonline (NLRB-35); and Freedom of Information Act Tracking System (FTS) and Associated Agency Files (NLRB-32).

DATES: This notice action shall be effective immediately.

ADDRESSES: All persons who desire to submit written comments for consideration by the Agency in connection with this notice of rescindment of systems of records shall mail them to the Agency's Senior Agency Official for Privacy, National Labor Relations Board, 1015 Half Street SE, Washington, DC 20570-0001, or submit them electronically to privacy@nlrb.gov. Comments may also be submitted electronically through http://www.regulations.gov, which contains a copy of this proposed notice and any submitted comments.

FOR FURTHER INFORMATION CONTACT: Ibrahim M. Ibrahim, Privacy and Information Security Specialist, Office of the Chief Information Officer, National Labor Relations Board, 1015 Half Street SE, Washington, DC 20570-0001, (202) 273-3733, or at privacy@nlrb.gov.

SUPPLEMENTARY INFORMATION: The NLRB, elsewhere in the Federal Register, is publishing a NOTICE OF A NEW SYSTEM OF RECORDS for the “NLRB Freedom of Information Act Records (NLRB-37)” system. This system, among other things, enables the NLRB to electronically receive, process, track, and store requests from the public for federal records; store responsive records; post responsive records to a website; collect data for annual reporting requirements to the Department of Justice; and manage internal FOIA administration activities.

Prior to the use of NLRB-37, the Agency used NLRB FOIAonline (NLRB-35) (84 FR 67967 (Dec. 12, 2019)) and Freedom of Information Act Tracking System (FTS) and Associated Agency Files (NLRB-32) (71 FR 74941 (Dec. 13, 2006)) as FOIA processing systems. As of October 1, 2023, the Agency ceased maintaining NLRB-35 as a system of records. As of August 1, 2017, the Agency ceased maintaining NLRB-32 as a system of records. Accordingly, the Agency is rescinding NLRB-35 and NLRB-32. Some NLRB-35 case file records were migrated into NLRB-37; others have been disposed of in accordance with National Archive and Records Administration (NARA) General Records Schedule 4.2, Item 020; all FTS records have been disposed of in accordance with the Agency's NLRB Records Disposition Standards, as approved by NARA.

SYSTEM NAME AND NUMBER:

NLRB FOIAonline (NLRB-35); and Freedom of Information Act Tracking System (FTS) and Associated Agency Files (NLRB-32).

HISTORY:

84 FR 67967 (Dec. 12, 2019); 71 FR 74941 (Dec. 13, 2006).

Dated: Washington, DC, March 21, 2025.
By direction of the Board.
Roxanne L. Rothschild,
Executive Secretary.

[FR Doc. 2025-05133 Filed 3-25-25; 8:45 am]

BILLING CODE 7545-01-P